DEPARTMENT OF TRANSPORTATION

Pipeline and Hazardous Materials Safety Administration

Hazardous Materials: Notice of Applications for Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein.

DATES: Comments must be received on or before January 30, 2023.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington DC or at http://regulations.gov.

This notice of receipt of applications for special permit is published in accordance with part 107 of the Federal hazardous materials transportation law (49 U.S.C. 5117(b); 49 CFR 1.53(b)).

Issued in Washington, DC, on January 9, 2023.
Donald P. Burger,
Chief, General Approvals and Permits Branch.

Application No. | Applicant | Regulation(s) affected | Nature of the special permits thereof
Special Permits Data
9998-M | Accumulators, Inc. | 173.302(a) | To modify the special permit to authorize additional accumulators. (modes 1, 2, 3, 4).
11771-M | Phillips 66 Pipeline LLC | 172.302(c), 173.31(d)(1)(ii), 173.31(d)(1)(iv), 173.31(d)(1)(vi), 174.67(b), 174.67(c) | To modify the special permit to authorize DOT 117R rail cars. (mode 2).
16572-M | Samsung Austin Semiconductor, L.L.C. | 173.158(f) | To modify the special permit to authorize a Division 5.1 subsidiary hazard for the hazardous material. (mode 1).
20493-M | Tesla, Inc. | 172.101(j) | To modify the special permit to authorize additional lithium ion batteries. (mode 4).
20851-M | Call2Recycle, Inc. | 172.600, 172.200, 172.700(a) | To modify the special permit to authorize transportation other than that for recycling. (modes 1,2).
21163-M | United Initiators, Inc. | 178.345-10(b)(1) | To modify the special permit to authorize additional hazardous materials. (mode 1).

[FR Doc. 2023-00604 Filed 1-12-23; 8:45 am]

BILLING CODE 4910-60-P